DEPARTMENT OF JUSTICE

Office of Juvenile Justice and Delinquency Prevention

[OJP (OJJDP) Docket No. 1798]

Notice of Charter Renewal of the Federal Advisory Committee on Juvenile Justice

AGENCY: Office of Juvenile Justice and Delinquency Prevention, Office of Justice Programs, Department of Justice.

ACTION: Notice of charter renewal.

SUMMARY: Notice that the charter of the Federal Advisory Committee on Juvenile Justice has been renewed.

FOR FURTHER INFORMATION CONTACT: Visit the website for the Federal Advisory Committee on Juvenile Justice at www.facjj.ojp.gov or contact Cara Blair, Designated Federal Official (DFO), Office of Juvenile Justice and Delinquency Prevention, via email at cara.blair@usdoj.gov, or telephone at 202-307-5911 (not a toll-free number).

SUPPLEMENTARY INFORMATION: This Federal Register Notice notifies the public that the Charter of the Federal Advisory Committee on Juvenile Justice has been renewed in accordance with the Federal Advisory Committee Act, Section 14(a)(1). The Federal Advisory Committee on Juvenile Justice Charter was renewed on February 24, 2022. One can obtain a copy of the renewal Charter by accessing the Federal Advisory Committee on Juvenile Justice's website at www.facjj.ojp.gov.

Cara Blair,
Designated Federal Official (DFO), Office of Juvenile Justice and Delinquency Prevention.

[FR Doc. 2022-08377 Filed 4-19-22; 8:45 am]

BILLING CODE 4410-18-P